DEPARTMENT OF COMMERCE

International Trade Administration

[A-570-822]

Helical Spring Lock Washers From the People's Republic of China: Notice of Extension of Time Limit for the Final Results of the Antidumping Duty Administrative Review

AGENCY: Import Administration, International Trade Administration, Department of Commerce.

EFFECTIVE DATE: January 16, 2008.

FOR FURTHER INFORMATION CONTACT: Marin Weaver or Charles Riggle, AD/CVD Operations, Office 8, Import Administration, International Trade Administration, U.S. Department of Commerce, 14th Street and Constitution Avenue, NW., Washington, DC 20230; telephone (202) 482-2336 or (202) 482-0650, respectively.

SUPPLEMENTARY INFORMATION:

Background

On September 12, 2007, the Department of Commerce (“the Department”) published Helical Spring Lock Washers From the People's Republic of China: Preliminary Results of Antidumping Duty Administrative Review, 72 FR 52073 (“Preliminary Results”). This review covers the period October 1, 2005, through September 30, 2006. The final results are currently due by January 10, 2008.

Extension of Time Limit for Final Results of Review

Pursuant to section 751(a)(3)(A) of the Tariff Act of 1930, as amended (“the Act”), the Department shall make a final determination in an administrative review of an antidumping duty order within 120 days after the date on which the preliminary results are published. The Act further provides, however, that the Department may extend that 120-day period to 180 days after the preliminary results if it determines it is not practicable to complete the review within the foregoing time period.

The Department finds that it is not practicable to complete the final results of the administrative review of helical spring lock washers from the People's Republic of China within the 120-day period due to complex issues the parties have raised regarding which countries to exclude from certain surrogate values. In accordance with section 751(a)(3)(A) of the Act, the Department is extending the time period for completion of the final results of this review by 5 days to 125 days after the date on which the preliminary results were published. Therefore, the final results are now due no later than January 15, 2008.

This notice is published in accordance with sections 751(a)(3)(A) and 777(i) of the Act.

Dated: January 10, 2008.
Stephen J. Claeys,
Deputy Assistant Secretary for Import Administration.

[FR Doc. E8-687 Filed 1-15-08; 8:45 am]

BILLING CODE 3510-DS-P